DEPARTMENT OF STATE

[Public Notice 6077]

Bureau of Political-Military Affairs: Directorate of Defense Trade Controls: Renewal of Defense Trade Advisory Group Charter

SUMMARY: Notice is hereby given that the Charter of the Defense Trade Advisory Group (DTAG) has been renewed for a two-year period. The membership of this advisory committee consists of private sector defense trade specialists appointed by the Assistant Secretary of State for Political-Military Affairs. The DTAG advises the Department on policies, regulations, and technical issues affecting defense trade.

FOR FURTHER INFORMATION CONTACT: Alexandra Frantz, PM/DDTC, SA-1, 12th Floor, Directorate of Defense Trade Controls, Bureau of Political-Military Affairs, U.S. Department of State, Washington, DC 20522-0112; telephone (202) 736-9220; FAX (202) 261-8199; or e-mail Frantza@state.gov.

Dated: March 10, 2008.
Robert S. Kovac,
Executive Secretary, Defense Trade Advisory Group, Department of State.

[FR Doc. E8-6676 Filed 3-31-08; 8:45 am]

BILLING CODE 4710-25-P